U.S.-CHINA ECONOMIC AND SECURITY REVIEW COMMISSION

Notice of Open Public Hearing

AGENCY: U.S.-China Economic and Security Review Commission.

ACTION: Notice of open public hearing—April 19, 2012, Washington, DC.

SUMMARY: Notice is hereby given of the following hearing of the U.S.-China Economic and Security Review Commission.

Name: Dennis Shea, Chairman of the U.S.-China Economic and Security Review Commission. The Commission is mandated by Congress to investigate, assess, and report to Congress annually on “the national security implications of the economic relationship between the United States and the People's Republic of China”. Pursuant to this mandate, the Commission will hold a public hearing in Washington, DC, on April 19, 2012, to address the “China-Europe Relationship and Transatlantic Implications”.

Background: This is the fourth public hearing the Commission will hold during its 2012 report cycle to collect input from academic, industry, and government experts on national security implications of the U.S. bilateral trade and economic relationship with China. The April 19 hearing will examine the economic, security, and foreign policy aspects of the China-Europe relationship, and their implications for the United States. The hearing will be co-chaired by Commissioners Carolyn Bartholomew and Daniel Blumenthal. Any interested party may file a written statement by April 18, 2012, by mailing to the contact below. A portion of each panel will include a question and answer period between the Commissioners and the witnesses.

Date and Time: Thursday April 19, 2012, 8 a.m.-4:15 p.m. Eastern Time. A detailed agenda for the hearing will be posted to the Commission's Web site at www.uscc.gov as soon as available. Please check the Web site for possible changes to the hearing schedule. Reservations are not required to attend the hearing.

ADDRESSES: Please check our Web site at www.uscc.gov for further information. Reservations are not required to attend the hearing.

FOR FURTHER INFORMATION CONTACT: Any member of the public seeking further information concerning the hearing should contact Gavin Williams, 444 North Capitol Street NW., Suite 602, Washington DC 20001; phone: 202-624-1492, or via email at contact@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: April 11, 2012.
Michael Danis,
Executive Director, U.S.-China Economic and Security Review Commission.

[FR Doc. 2012-9058 Filed 4-13-12; 8:45 am]

BILLING CODE 1137-00-P